ENVIRONMENTAL PROTECTION AGENCY

[FRL-9956-57-OECA]

Applicability Determination Index (ADI) Data System Recent Posting: Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) data system is available on the Internet through the Resources and Guidance Documents for Compliance Assistance page of the Clean Air Act Compliance Monitoring Web site under “Air” at: https://www2.epa.gov/compliance/resources-and-guidance-documents-compliance-assistance. The letters and memoranda on the ADI may be located by date, office of issuance, subpart, citation, control number, or by string word searches. For questions about the ADI or this notice, contact Maria Malave at EPA by phone at: (202) 564-7027, or by email at: malave.maria@epa.gov. For technical questions about individual applicability determinations, monitoring decisions or regulatory interpretations, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. The EPA's written responses to these inquiries are commonly referred to as applicability determinations. See 40 CFR 60.5 and 61.06. Although the NESHAP part 63 regulations [which include Maximum Achievable Control Technology (MACT) standards and/or Generally Available Control Technology (GACT) standards] and Section 111(d) of the Clean Air Act (CAA) contain no specific regulatory provision providing that sources may request applicability determinations, the EPA also responds to written inquiries regarding applicability for the part 63 and Section 111(d) programs. The NSPS and NESHAP also allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of NSPS and NESHAP regulatory requirements as they pertain to a whole source category. These inquiries may pertain, for example, to the type of sources to which the regulation applies, or to the testing, monitoring, recordkeeping, or reporting requirements contained in the regulation. The EPA's written responses to these inquiries are commonly referred to as regulatory interpretations.

The EPA currently compiles EPA-issued NSPS and NESHAP applicability determinations, alternative monitoring decisions, and regulatory interpretations, and posts them to the ADI on a regular basis. In addition, the ADI contains EPA-issued responses to requests pursuant to the stratospheric ozone regulations, contained in 40 CFR part 82. The ADI is a data system on the Internet with over three thousand EPA letters and memoranda pertaining to the applicability, monitoring, recordkeeping, and reporting requirements of the NSPS, NESHAP, and stratospheric ozone regulations. Users can search for letters and memoranda by date, office of issuance, subpart, citation, control number, or by string word searches.

Today's notice comprises a summary of 30 such documents added to the ADI on December 6, 2016. This notice lists the subject and header of each letter and memorandum, as well as a brief abstract of the letter or memorandum. Complete copies of these documents may be obtained from the ADI on the Internet through the Resources and Guidance Documents for Compliance Assistance page of the Clean Air Act Compliance Monitoring Web site under “Air” at: https://www2.epa.gov/compliance/resources-and-guidance-documents-compliance-assistance.

Summary of Headers and Abstracts

The following table identifies the control number for each document posted on the ADI data system on December 6, 2016; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA section 307(b)(1) For example, this notice does not convert an applicability determination for a particular source into a nationwide rule. Neither does it purport to make a previously non-binding document binding.

ADI Determinations Uploaded on December 6, 2016
Control No. | Categories | Subparts | Title
1500007 | NSPS | Eb | Waiver of System Operational Limits During Performance Test.
1500050 | MACT, NESHAP, NSPS | A, Db, JJJJJJ | Extension Request for Initial Performance Test at Coal-Fired Boiler.
1500053 | NSPS | Ja | Alternative Monitoring Plan for Flares at a Petroleum Refinery.
1500061 | NSPS | IIII | Regulatory Interpretation for Bi-fuel Engine Kits.
1500075 | NSPS | KKK, OOOO, VV, VVa | Applicability Determination for a Natural Gas Processing Plant.
1500076 | NSPS | Ja | Applicability Determination for a Condensate Splitter Processing Facility.
1500077 | NSPS | CCCC, DDDD | Applicability Determination for Thermal Oxidizer.
1500078 | NSPS | OOO | Applicability Determination for Equipment Replacement at Salt Recovery Production Line.
1500079 | NSPS | DD | Applicability Determination for Wire Screen Column Dryers.
1500080 | NSPS | JJJ | Applicability Determination for Closed Loop Dry to Dry Cleaning Equipment.
1500084 | NSPS | KKK, NNN, OOOO, RRR | Alternative Monitoring for Vent Streams Flow Monitoring and Pilot Light Monitoring.
1600001 | GACT, MACT, NESHAP, NSPS | CCCC, DDDDD, JJJJJJ | Applicability Determination for a Stoker Boiler.
1600002 | NSPS | OOO | Extension Request for Performance Test at Sand Mine.
1600005 | NSPS | LLLL | Alternative Monitoring for Granular Activated Carbon and Fugitive Ash Monitoring at Sewage Sludge Incinerator.
1600006 | NSPS | LLLL | Alternative Monitoring for Wet Electrostatic Precipitator at Sewage Sludge Incinerator.
1600007 | NSPS | Ja | Alternative Monitoring of Hydrogen Sulfide from Flares at Chemical Plant.
1600008 | NSPS | J, Ja | Alternative Monitoring of Hydrogen Sulfide from Portable Temporary Thermal Oxidizer Units at Refinery Degassing Operations.
M150035 | MACT, NESHAP | HHHHHHH | Alternative Monitoring for Scrubber at Polyvinyl Chloride Plant.
M150038 | MACT, NESHAP | N | Alternative Monitoring Procedures for Air Pollution Control Device at Chrome Plating Facility.
M150039 | MACT, NESHAP | DDDDD | Alternative Monitoring for Wet Scrubbers at Pulp and Paper Mill.
M150040 | MACT, NESHAP | DDDDD | Alternative Monitoring for Wet Venturi Scrubber and Power Boiler.
M160001 | MACT, NESHAP | RRR | Applicability Determination for an Aluminum Chip Dryer.
M160002 | MACT, NESHAP | DDDD, DDDDD | Applicability Determination for Drying Kilns and Boilers.
M160003 | MACT, NESHAP | DDDDD | Applicability Determination for a Biomass Boiler Sub-Categorization.
M160004 | MACT, NESHAP | BBBBB | Applicability Determination for Semiconductor Facility.
Z150003 | MACT, NESHAP | BBBBBB | Alternative Monitoring for Internal Floating Roof Tanks.
Z150007 | MACT, NESHAP | ZZZZ | Regulatory Interpretation of Duke Energy Emergency Generator Programs.
Z150008 | MACT, NESHAP, NSPS | IIII, JJJJ, ZZZZ | Regulatory Interpretation on Stack Testing for Reciprocating Internal Combustion Engines.
Z150012 | GACT, MACT, NESHAP | JJJJJJ | Regulatory Interpretation of Emissions Test Data for Wood-Fired Boilers.
Z160001 | GACT, MACT, NESHAP | DDDDDDD | Clarification of Prepared Feeds Area Source Rule.

Abstracts

Abstract for [1500007]

Q: Will the EPA grant a waiver to the large municipal waste combustor (MWC) at Covanta Marion, Inc. (CMI) in Brooks, Oregon, pursuant to its authority under 40 CFR 60.53b(b)(2) for the combustor unit load level limitations, under 40 CFR 60.53b(c)(1) for the particulate matter control device inlet temperature, and under 40 CFR 60.58b(m)(2)(ii) for the average mass carbon feed rate, for the two weeks preceding, and during the annual dioxin/furan and mercury performance tests for the purpose of evaluating system performance?

A: Yes. For the purpose of evaluating system performance, the EPA agrees to waive the following operational limits imposed to large municipal waste combustors under the Federal Plan at subpart FFF, part 62, pursuant to its authority under 40 CFR 60.53b(b)(2): (1) MWC load level (steam generation rate), (2) flue gas temperatures at the inlet to the particulate matter control device, and (3) activated carbon injection rate (mass carbon feed rate). These requirements are waived for the two week period preceding, and during the annual dioxin/furan and mercury performance test which is scheduled to take place during the week of June 9, 2014 at the CMI MWC. This waiver is limited to the time frame and operational limits specifically identified above, and all otherwise applicable requirements continue to be in effect during this period.

Abstract for [1500050]

Q: May the Eielson Air Force Base (EAFB) in Alaska have an extension to the required initial performance test deadlines for a recently constructed Boiler 6A subject to 40 CFR part 60 subpart Db and 40 CFR part 63 subpart JJJJJJ under the force majeure provisions in 40 CFR 60.2, 60.8(a)(1) through (4); 63.2, and 60.7(a)(4)(i) through (iii)?

A: No. The EPA determines that the event described in the request does not meet the definition of a “force majeure event”. The EPA cannot conclude that the delay in full operation of B6A in sufficient time to conduct the required initial performance tests was beyond the control of the EAFB; therefore, the EPA is denying the EAFB's request to extend the April 26, 2015, deadline for conducting the initial performance testing of B6A.

Abstract for [1500053]

Q: Will the EPA approve alternatives to the quality assurance testing requirements, required by 40 CFR 60.107a(e)(1), for the total reduced sulfur (TRS) flare analyzer at the CHS Inc. refinery in Laurel, Montana?

A: Yes. The EPA conditionally approves the alternative quality assurance testing requirements for the high range TRS portion of the analyzer under 40 CFR 60.l3(i). The conditions for approval of the AMP request to address safety hazards concerns are established in the EPA response letter, which include a laboratory demonstration of linearity for the analyzer.

Abstract for [1500061]

Q1: Does the installation of the bi-fuel kit on new U.S. EPA-certified units at engines at the USR Corporation in Virginia subject to NSPS subpart IIII affect the manufacturer's certification? In other words, is the unit still a certified unit?

A1: No. The EPA determines that the engine is no longer certified after the conversion and the owner/operator must follow the requirements listed under 40 CFR 60.4211(g) to show compliance with emission standards in NSPS subpart IIII.

Q2: Does the installation and operation of the bi-fuel kit on a certified engine constitute tampering under the Clean Air Act, or is this action prohibited by other provisions of the Clean Air Act?

A2: No. The EPA determines this action is not prohibited for certified stationary compression ignition internal combustion engines (CI ICE), but after the installation and operation of the kit, the unit is no longer certified. The owner/operator must show compliance with emission standards by following requirements listed in 40 CFR 60.4211(g).

Q3: If a manufacturer's certification is affected for an engine, what specific requirements must be performed to ensure compliance with emission standards under NSPS subpart IIII? URS requests a determination as to the testing procedures required for a facility with a fleet of identical engines which have been installed with bi-fuel units. The engines are identical in size, horsepower, model year, etc. The test would determine compliance with NSPS subpart IIII and would represent compliance for all the identical engines for the client. It is URS' contention that since the engines are identical in every way, it would be unnecessary and cost prohibitive to test all of the engines. Can a representative engine test satisfy the testing requirements for a fleet of identical engines for the same client?

A3: No. The testing requirements are listed in 40 CFR 60.4211(g). An initial performance test must be conducted for stationary CI ICE less than or equal to 500 horsepower (HP). For stationary CI ICE greater than 500 horsepower, the owner/operator must conduct an initial test, and subsequent testing every 8,760 hours of operation or every 3 years, whichever comes first. The EPA determines that a representative engine test cannot satisfy the testing requirements for a fleet of identical engines for one client, unless the owner/operator has requested and received approval of a waiver of the performance testing requirements, listed under 40 CFR 60.8(b).

Abstract for [1500075]

Q1: Does the NSPS subpart OOOO apply to the storage facilities at the Williams Four Corners LLC Ignacio Gas Plant located near Ignacio, Colorado?

A1: Yes. Based on the information provided, the EPA understands the storage facilities referred to are the portion of the plant which stores final product (propane, butane, etc.) prior to offsite transport. As such, the storage facilities at the Ignacio Gas Plant are a process unit and an affected facility under subpart OOOO.

Q2: What value should the Ignacio Gas Plant use for “B” in the equation for determining whether a “capital expenditure” has occurred, and thus a modification under subpart OOOO at the Ignacio Gas Plant?

A2: For determining whether a modification has occurred at the Ignacio Gas Plant under subpart OOOO, in the equation for capital expenditure in 40 CFR 60.481(a), the value to be used for “B” is 4.5 and the value to be used for “X” is 2011 minus the year of construction.

Abstract for [1500076]

Q1: Does the EPA determine that NSPS subpart Ja applies to the condensate splitter located at the Kinder Morgan Crude & Condensate LCC (KMCC) Facility, a petroleum refinery located in Galena Park, Texas?

A1: Yes. Based upon the information provided, the EPA determines that the KMCC condensate splitter facility is a refinery under subpart Ja because it receives and distills a crude oil and condensate hydrocarbon mixture into various refined petroleum products. Based on review of the company's information, the EPA concludes that the raw material feedstock, processes employed, and products generated meet the definition of a petroleum refinery provided at 40 CFR 60.101a.

Abstract for [1500077]

Q1: Does the EPA determine that the thermal oxidizer at the 3M Company (3M) facility in Cordova, Illinois is subject to the Standards of Performance for Commercial and Industrial Solid Waste Incineration (CISWI) Units, 40 CFR part 60 subpart CCCC?

A1: No. The EPA determines that the thermal oxidizer is not subject to subpart CCCC because 3M commenced construction of the thermal oxidizer before the threshold date for a new CISWI unit.

Q2: Does the EPA determine that a fluorinated liquid organic chemical byproduct from a chemical manufacturing process unit at the facility which is atomized in the thermal oxidizer is not a “solid waste” as defined in 40 CFR 60.2265?

A2: Yes. Based on the information provided, the byproduct liquid appears to meet the Non Hazardous Secondary Material (NHSM) criteria and would be considered a non-waste ingredient under the 40 CFR part 241 regulations.

Abstract for [1500078]

Q1: Does the EPA determine that the “like-for-like” replacement exemption in 40 CFR 60.670(d) is applicable to the replacement of affected facilities on production lines that were constructed after August 31, 1983 at the 3M Company salt recovery production line located in Elyria, Ohio?

A1: Yes. The EPA determines that the “like-for-like” replacement exemption in 40 CFR 60.670(d)(1) of subpart OOO is applicable to “affected facilities” (those constructed after August 31, 1983) with regards to the subpart OOO amendments promulgated on April 28, 2009 based on 3M's description that the Weigh Conveyors A and B are equal or smaller in size to and perform the same function as the original conveyors, and emissions at the conveyors did not increase, and as long as the remaining affected facilities in the salt recovery production line have not been replaced since April 22, 2008.

Q2: What emission standards apply to a production line constructed after August 31, 1983 that includes affected facilities constructed as a “like-for-like” replacement after April 22, 2008, assuming that all of the affected facilities on the production line have not been replaced as provided in 40 CFR 60.670(d)(3)?

A2: A production line constructed after August 31, 1983 that includes affected facilities constructed as a “like-for-like” replacement after April 22, 2008 is subject to the original subpart OOO rule standards promulgated on August 1, 1985, and not the 2009 subpart OOO rule standards, as long as all affected facilities on the production line have not been replaced.

Abstract for [1500079]

Q: Does the EPA determine that NSPS subpart DD applies to column dryers constructed of woven wire screen at the Riceland Foods facility in Stuttgart, Arkansas (Riceland)?

A: No. The EPA determines that although the Riceland facility is a grain terminal elevator subject to subpart DD, the column dryers in question are a new subcategory of grain dryers not subject to subpart DD due to its differences in size, type and class of column dryers. The EPA has stated this position in the July 9, 2014 proposed rule for subpart DD and in a new proposed subpart DDa rule, which now includes a definition for “wire screen column dryers”.

Abstract for [1500080]

Q: Does the EPA determine that NSPS subpart JJJ for Petroleum Dry Cleaners applies to closed loop, dry to dry new hydrocarbon equipment at Parrot Cleaners facility in Louisville, Kentucky?

A: No. The EPA determines that the dry to dry closed loop machines installed at Parrot Cleaners do not meet the definition of a “petroleum dry cleaner,” in that they do not use solvent in a “combination of washers, dryers, filters, stills, and settling tanks” since these are single unit machines. The EPA intent to regulate dry cleaning machines with separate units (i.e., transfer machines with separate washers and dryers) in subpart JJJ is evidenced by the equipment standard requiring separate “solvent recovery dryers” in section 60.622 and in the testing procedures in section 60.624, as well as in other EPA statements regarding the petroleum solvent drycleaning industry. Therefore, subpart JJJ does not apply to the dry to dry machines installed at the facility.

Abstract for [1500084]

Q1: Does the EPA approve the use of a lock and seal configuration in lieu of flow indicators to monitor VOC containing vent streams routed from distillation facilities to plant flares at the Aux Sable Liquid Products (ASLP) facility in Morris, Illinois to demonstrate compliance with requirements of 40 CFR 63 subpart NNN?

A1: Yes. The EPA approves locking or sealing leak-proof bypass valves in the closed position in lieu of flow indicators. ASLP will conduct monthly monitoring of the lock or seal valves to ensure that they function and are kept in the closed position. ASLP will maintain a log of each lock or seal inspection and comply with the monitoring requirements of 40 CFR 60.703(b)(2), 40 CFR 60.703(b)(2)(i), and 40 CFR 60.703 (b)(2)(ii) of NSPS subpart RRR for the purpose of complying with NSPS NNN. In addition, ASLP will need to comply with the monitoring and record keeping requirements of 40 CFR 60.705(d)(2) and (s).

Q2: Does the EPA approve the use of infrared cameras to monitor the continuous presence of a pilot light in lieu of a thermocouple or ultraviolet beam sensor, in the ASLP Morris, Illinois facility?

A2: No. The EPA does not approve the use of an infrared camera pilot monitor (PM) to meet the requirements of 40 CFR 60.663(b), 40 CFR 60.703(b) and 40 CFR 60.18(e)(2) because ASLP is unable to prove that their pilot monitor can continuously monitor the presence of a pilot flame. The PM is able to detect the flare flame accurately and reliability when the vent gas is flowing, but it has not proven to have sufficient resolution for a situation where the pilot light is not present and a flare flame is present with vent gas flowing.

Abstract for [1600001]

Q1: Does the EPA determine that the stoker boiler at Fibrominn LLC (Fibrominn) in Benson, Minnesota is subject to the Standards of Performance for Commercial and Industrial Solid Waste Incineration (CISWI) Units, 40 CFR part 60 subpart CCCC (CISWI NSPS)?

A1: No. Although the EPA concludes that the boiler is a CISWI unit, Fibrominn commenced construction of its boiler on or before June 4, 2010 and there is no evidence that it has been modified or reconstructed after August 7, 2013. Therefore, the EPA concludes that Fibrominn's boiler is not subject to the CISWI NSPS pursuant to 40 CFR 60.2010 and 60.2015.

Q2: Does the EPA determine that Fibrominn's boiler is subject to the Federal Plan Requirements for CISWI Units That Commenced Construction On or Before November 30, 1999, 40 CFR part 62 subpart III (CISWI FIP)?

A2: No. Fibrominn's boiler is not subject to the CISWI FIP because Fibrominn commenced construction between November 30, 1999, and June 4, 2010. The CISWI NSPS applies to each CISWI unit that commenced construction after June 4, 2010, or commenced reconstruction or modification after August 7, 2013.

Q3: Does the EPA determine that Fibrominn's boiler is exempt from the requirements in the CISWI FIP?

A3: No. Fibrominn's boiler is not subject to the CISWI FIP. Therefore, the question of whether Fibrominn's boiler is exempt from the CISWI FIP is moot.

Q4: Does the EPA determine that Fibrominn can avoid being subject to the NESHAP for Major Sources: Industrial, Commercial, and Institutional Boilers and Process Heaters, 40 CFR part 63 subpart DDDDD (Major Source Boiler MACT) by taking federally enforceable limits on its potential to emit prior to the compliance date, January 31, 2016?

A4: Yes. The EPA agrees that Fibrominn can take federally enforceable limits on its potential to emit to avoid being subject to the Major Source Boiler MACT. By doing so, Fibrominn would become subject to the NESHAP for Industrial, Commercial, and Institutional Boilers Area Sources, 40 CFR part 63 subpart JJJJJJ (Area Source Boiler MACT).

Q5: If Fibrominn submits a formal application to the Minnesota Pollution Control Agency (MPCA) to amend Fibrominn's existing Title V permit in order to take a synthetic minor limit, and Fibrominn submits the application to the MPCA prior to January 31, 2016, the compliance date for the Major Source Boiler MACT, does this constitute Fibrominn's “taking a synthetic minor limit” in terms of eligibility to avoid being subject to the Major Source Boiler MACT?

A5: No. Fibrominn's submittal of its application for modification of its Title V permit does not constitute taking federally enforceable limits on its potential to emit.

Q6: Does the EPA determine that Fibrominn remain subject to the case-specific MACT in its 2002 Title V permit after the compliance date for the Major Source Boiler MACT?

A6: Yes. The EPA notes that more than one MACT standard can apply to the same equipment or operation. Unless the case specific MACT is removed from the permit, Fibrominn would remain subject to the case specific MACT and either the Major Source or Area Source Boiler MACT.

Abstract for [1600002]

Q: Does the EPA approve an extension of time to conduct a performance test required by NSPS subpart OOO based on a force majeure event at the Hi-Crush Augusta, LLC industrial sand mine and processing plant in August, Wisconsin?

A: No. The EPA determines that the event described in the request does not meet the definition of a “force majeure event” under 40 CFR 60.2.

Abstract for [1600005]

Q1: Does the EPA approve an alternative monitoring plan (AMP) for the granular activated carbon adsorption system used to control mercury emissions from the sewage sludge incinerator subject to 40 CFR part 60 subpart LLLL at the Mattabassett District Water Pollution Control Facility in Cromwell, Connecticut?

A1: Yes. The EPA approves Mattabassett's AMP for the carbon bed under 40 CFR 60.13(i) for the granular activated carbon adsorption system (“carbon bed”) used to control mercury emissions from the sewage sludge incinerator subject to subpart LLLL. The alternative monitoring plan that Mattabassett has proposed, combined with the facilities construction permit, meets the requirement of a similar type of monitoring application for carbon beds used to control mercury under 40 CFR part 63 subpart EEE.

Q2: Does the EPA approve Mattabassett's site-specific ash handling monitoring plan to meet the fugitive emission limits specified in 40 CFR part 60 subpart LLLL, considering that the ash at the facility is collected using an entirely wet system?

A2: Yes. The EPA approves Mattabassett's site-specific plan for fugitive ash monitoring that consists of daily observations of the ash lagoons.

Abstract for [1600006]

Q: Does the EPA approve an alternative monitoring plan (AMP) for the wet electrostatic precipitator (WESP) used to control air emissions from the sewage sludge incinerator subject to 40 CFR part 60 subpart LLLL located at the Mattabassett District Water Pollution Control Facility (Mattabassett) in Cromwell, Connecticut?

A: Yes. The EPA approves Mattabassett's AMP to monitor the total water flow rate of the influent to the WESP on an 8 hour block basis and to set the parameter limit at 90 percent of the 8 hour flow recorded during the initial performance test.

Abstract for [1600007]

Q: Does the EPA approve the alternative monitoring plan to use the same high level calibration gas for both the low range and high level range for two dual range hydrogen sulfide (H2S) monitors installed on two flares subject to 40 CFR part 60 subpart Ja at the Shell Chemical LP plant in Saraland, Alabama?

A: Yes. The EPA responded to the Alabama Department of Environmental Management that based upon the expectation that the majority of H2S readings will be made on the lower range of the dual range monitors, a demonstration that the monitors have a linear response across their entire range of operation, and the toxicity of H2S, the proposal is acceptable.

Abstract for [1600008]

Q: Does the EPA approve an alternative hydrogen sulfide (H2S) monitoring plan (AMP) for portable temporary thermal oxidizer units (TOUs) that control emissions during tank degassing and vapor control projects subject to 40 CFR part 60 subpart J and 40 CFR part 60 subpart Ja at Tristar Global Energy Solutions (Tristar) petroleum refineries located in EPA Region 4?

A: Yes. The EPA approves the AMP request since installing and operating an H2S continuous emission monitoring system would be impractical due to the short term nature of the degassing operations performed by Tristar. In addition, Tristar's proposed monitoring alternative is consistent with previously approved alternatives for other tank degassing service providers.

Abstract for [M150035]

Q1: Does the EPA approve an alternative monitoring request (AMR) for the purpose of monitoring pressure drop under requirements of 40 CFR part 63 subpart HHHHHHH Table 5, Polyvinyl Chloride (PVC) and Copolymer Production at Major Sources NESHAP at the Oxy Vinyls, LP Pasadena PVC plant in Pasadena, Texas?

A1: Yes. The EPA approves the AMR to substitute ambient pressure for the measured outlet pressure of the scrubber. Since the scrubber is a low pressure scrubber, the outlet of the scrubber system operates at ambient pressure. Any pressure changes in the scrubber would be indicated by changes to the inlet pressure, which will be directly monitored. Therefore, the calculation of pressure drop will be determined by the difference between inlet pressure and ambient pressure. The operating limit for pressure drop has been established using engineering assessments and manufacturer's recommendations, which is allowed by 40 CFR 63.11935(d)(2). Scrubber pressure drop will be recorded in accordance with the approved AMR during a performance test, along with other operating parameters required by Table 5 of subpart HHHHHHH. The frequency and content of pressure drop monitoring, recording, and reporting will not change as a result of the approved AMR.

Abstract for [M150038]

Q: Does the EPA approve of alternative work practice and monitoring procedures for the three enclosed hard chromium plating tanks to be installed that will be subject to 40 CFR part 63 subpart N at the Har-Conn Chrome Company (Har-Conn) facility in West Hartford, Connecticut?

A: Yes. The EPA approves the Har-Conn alternative monitoring procedures to demonstrate ongoing compliance with the operation and maintenance (“O&M”) practices and monitoring specified in Table 1 of 63.342 as they are not feasible for the application to the Palm Technology Emission Eliminating Devices (EEE) used by the enclosed hard chromium tanks. Har-Conn will use the operation and maintenance (O&M) practices and manual recommended by the manufacturer of the Palm Technology Emission Eliminating Devices (EEE), as well as daily, weekly, monthly, quarterly, and annual compliance monitoring logs for the EED.

Abstract for [M150039]

Q: Does the EPA approve an alternative monitoring plan to the use of an alternative control device parameter other than one of the parameters required at 40 CFR 63.7525(f) and Tables 4, 7, and 8 in subpart DDDDD for wet scrubbers at the SAPPI Fine Paper North America (SAPPI) facility in Skowhegan, Maine?

A: Yes. The EPA approves SAPPI's alternative monitoring request for the wet scrubber to monitor scrubber liquid supply pressure in lieu of the pressure drop across the wet scrubber used to control emissions from the Number 2 Power Boiler. Based on the data provided showing strong correlation between spray tower liquid recirculation pressure and flow, as well as data that demonstrates a poor correlation between pressure drop of the scrubber and heat input to the boiler (an indicator of emissions), EPA agrees that this method may be used in this situation in lieu of monitoring pressure drop across the scrubber. In addition, this method is consistent with similar boiler monitoring applications.

Abstract for [M150040]

Q1: Does the EPA approve separate sets of parameter monitoring thresholds for the scrubber liquid flow rate and pressure drop of the wet venturi scrubber subject to 40 CFR part 63 subpart DDDDD at the Verso Corporation (Verso) facility in Jay, Maine under two operating scenarios: (1) Periods when the unit burns biomass and combined biomass/fossil-fuel burning at boiler capacities up to 480 MMBtu, and (2) periods when the unit burns only fossil fuel at boiler capacities equal to or less than 240 MMBtu, on a 30-day rolling average and on a daily block average when burning only fossil fuels?

A1: Yes. The EPA approves Verso's alternative monitoring request for both operating scenarios.

Q2: Does the EPA approve for Verso when burning exclusively natural gas to operate without engaging the wet venturi scrubber after startup and exclude periods when the wet scrubber is not engaged due to burning gas from the 30-day compliance averages?

A2: Yes. The EPA approves the request to allow the unit to operate without engaging the wet scrubber and to exclude parameter monitoring data during periods when only natural gas is fired, provided that Verso can demonstrate through existing data or emissions testing that the unit complies with the PM, Hg, and HCl emissions standards while firing only natural gas.

Abstract for [M160001]

Q: Would an aluminum chip drying process at the Remelt Scientific facility (Remelt) in Port Charlotte, Florida, that is used to remove water meet the definition of “thermal chip dryer” in 40 CFR part 63 subpart RRR?

A: No. Remelt's chip drying process does the not meet the definition of “thermal chip dryer” and is therefore not subject to subpart RRR. Based on the description that the process operates at temperatures of 200F and 235F, and the oil that remains on the chips has an evaporation temperature of over 300F, we believe that the process would be used solely to remove water from the aluminum chips since it would not be operating at temperatures sufficient to remove the machining oil that remains on the chips.

Abstract for [M160002]

Q1: The ArborTech Forest Products, Inc. (ArborTech) facility in Blackstone, Virginia is planning to increase its lumber production such that the potential to emit for methanol would be greater than 10 tons per year. Does the EPA determine that the facility would be reclassified as a major source for hazardous air pollutants (HAPs)?

A1: Yes. The EPA determines that if ArborTech increases the air permit limit on production and potential methanol emissions would exceed 10 tons/year that the facility would qualify as a major source and would need to be reclassified as a major source in the State permit.

Q2: Does the EPA determine that ArborTech would be subject to 40 CFR part 63 subpart DDDD, Plywood and Composite Wood Products National Emission Standards for Hazardous Air Pollutants (PCWP MACT), and would the dry kilns be considered an affected source immediately upon issuance of the revised permit/reclassification to a major source of HAPs?

A2: Yes. The EPA determines that ArborTech would be subject to the subpart DDDD rule on the date of issuance of the revised permit when the facility would be reclassified as a major source of HAPs, and therefore the dry kilns would be an affected source under the rule.

Q3: Does the EPA determine that if the wood-fired boilers' exhaust is routed to the lumber kiln(s) and used to dry lumber the boilers would be an “affected source” under the PCWP MACT and subject to the rule?

A3: The EPA determines that if Arbortech becomes a major source of HAPs, and if ArborTech sent 100 percent of the exhaust from its wood-fired boilers to its lumber drying kiln(s) to help dry lumber, then the boilers would not be subject to 40 CFR part 63 subpart DDDDD (the Major Source Boiler MACT), but would instead be subject to the PCWP MACT.

Q4: When does the EPA determine that Arbortech would become subject to the Major Source Boiler MACT?

A4: The EPA determines that if ArborTech were to become a major source of HAPs after the Major Source Boiler MACT initial compliance date for existing sources of January 31, 2016, then ArborTech would be required to bring its existing boilers into compliance with the Major Source Boiler MACT within three years after ArborTech became a major source, unless ArborTech had previously sent 100% of the exhaust from its boiler(s) to its kiln(s), thus making the boiler(s) and their exhaust streams affected sources under the PCWP MACT. If Arbortech were to become a major source prior to the Major Source Boiler MACT initial compliance date for existing sources of January 31, 2016, then its existing boilers would be required to be in compliance as of January 31, 2016, unless ArborTech had previously sent 100% of the exhaust from its boiler(s) to its kiln(s), thus making the boiler(s) and their exhaust streams affected sources under the PCWP MACT.

Abstract for [M160003]

Q: Does the EPA approve the re-categorization of Boiler No. 9 at the Finch Paper, LLC (Finch) integrated pulp and paper manufacturing facility located in Glen Falls, New York from the wet biomass stoker subcategory to the hybrid suspension grate boiler subcategory pursuant to 40 CFR part 63 subpart DDDDD (the Major Source Boiler MACT)?

A: Yes. Based on the information submitted on the design and operation of the Boiler No. 9, the EPA determines that it meets the definition of “hybrid suspension grate boiler” found in 40 CFR 63.7575. Therefore, Boiler No. 9 will be subject to the rule as it pertains to existing hybrid suspension grate boilers.

Abstract for [M160004]

Q: Does the EPA determine that the Truesense Imaging, Inc. (Truesense) semiconductor fabrication business (Semiconductor Business) located at its microelectronics wafer fabrication facility (FAB facility) in Rochester, NY is subject to the National Emissions Standards for Hazardous Air Pollutants for Semiconductor Manufacturing, 40 CFR part 63 subpart BBBBB (Semiconductor MACT)?

A: Yes. The EPA determines that the FAB facility, currently owned and operated by Truesense, is and continues to be an existing source with compliance required as of 2006 and must continue to comply with the Semiconductor MACT, even after a sale, as long as the source otherwise continues to meet the definition of an affected facility (i.e., major source status not withstanding) consistent with the “Once In Always In” policy.

Abstract for [Z150003]

Q: Does the EPA approve Monroe Interstate Pipeline Company (MIPC) alternative monitoring request for use of top-side in-service inspections in lieu of the out-of-service inspection requirements for specific types of internal floating roof (IFR) storage tanks subject to 40 CFR part 63 subpart BBBBBB (GD GACT) and/or 40 CFR part 60 subpart Kb, NSPS for Volatile Organic Liquid Storage Vessels), at the MIPC Chelsea Tank Farm in Aston, PA?

A: Yes. In accordance with 40 CFR 60.13 and 63.8(f), EPA approves MIPC alternative monitoring request for use of top-side in-service internal inspection methodology for the IFR storage tanks subject to NSPS Kb and GD GACT specified in the AMP request (tanks that have geodesic dome roofs equipped with skylights for enhanced natural lighting and aluminum honeycomb panel decks constructed decks with mechanical shoe primary and secondary seals liquid surface) to meet the internal out-of-service inspection required at intervals no greater than 10 years by the applicable regulations. MIPC will be able to have visual access to all of the requisite components (i.e., the primary and secondary mechanical seals, gaskets, and slotted membranes) through the top side of the IFR for the specified storage tanks, as well as properly inspect and repair the requisite components while these tanks are still in-service, consistent with the inspection and repair requirements established under NSPS subpart Kb. In addition, MIPC internal inspection methodology includes identifying and addressing any gaps of more than ⅛ inch between any deck fitting gasket, seal, or wiper and any surface that it is intended to seal; complying with the fitting and deck seal requirements and the repair time frame requirement in NSPS subpart Kb for all tanks, including GACT tanks; and implementing a full top-side and bottom-side out-of-service inspection of the tank each time an IFR storage tank is emptied and degassed for any reason, and keep records for at least five years.

Abstract for [Z150007]

Q: Does the EPA determine that the stationary reciprocating internal combustion engines (RICE) participating in two Duke Energy Carolinas nonresidential demand response programs meet the definition of “emergency stationary RICE” in the National Emissions Standards for Hazardous Air Pollutants for Stationary Reciprocating Internal Combustion Engines (“RICE NESHAP”)?

A: No. The EPA determines that the terms of Duke's demand response programs do not meet all of the operational limits on emergency engines in the RICE NESHAP. The terms of the programs are consistent with the limitations on emergency demand response. However, an engine must also comply with the definition of “emergency stationary RICE” and all of the operational restrictions in 40 CFR 63.6640(f) to be considered RICE NESHAP emergency engines.

Abstract for [Z150008]

Q1: Has EPA Method 1 been removed from the reciprocating internal combustion engine (RICE) NESHAP subpart ZZZZ, or should the engines at Farabee Mechanical in Hickman, Nebraska (Farabee) be following Method 1 for test port locations.

A1: No. EPA Method 1 of 40 CFR part 60 Appendix A from the RICE NESHAP should be followed for test port locations. The EPA response letter provides guidance for numerous testing scenarios under NESHAP subpart ZZZZ sources including engines where Method 1 is required but the testing ports do not meet the minimum criteria of Method 1 and engines that are not required to use Method 1 procedures.

Q2: Is there any conflict with the RICE NESHAP subpart ZZZZ rule if utilizing test ports at engines for testing purposes?

A2: No. The Farabee Mechanical facility was approved to use single-point sampling at NSPS subpart JJJJ sources in lieu of Method 1 for their engines. Single point sampling without a stratification test for nitrogen oxide emissions using Alternative Test Method 87 is allowed under 40 CFR 60, Subparts IIII and JJJJ. However, single point sampling for carbon monoxide at NESHAP subpart ZZZZ sources have not yet been broadly approved. Therefore, when Method 1 is not met, a stratification test is to be conducted to show if the site is acceptable to perform the test.

Abstract for [Z150012]

Q: Does the EPA approve the use of the results of a particulate matter emission test conducted on December 2014 for two new wood-fired boilers at Norwich University in Northfield, Vermont that are subject to the requirements of 40 CFR part 63 subpart JJJJJJ as being representative of “initial conditions” because the first test, conducted in February 2014, was not conducted under normal operating conditions?

A: Yes. The EPA approves the use of emissions test data from the second test as meeting the requirements of 40 CFR 63.11220(b) since it is representative of normal operating conditions, and therefore Norwich University may avoid the requirement to test particulate matter every three years.

Abstract for [Z160001]

Q: Does the EPA accept the proposal by Tyson Foods Inc. to use a louvered door system, where the louvers would only open inward and would only open when negative pressure is in place, to meet the work practice requirements in 40 CFR part 63 subpart DDDDDDD, National Emissions Standards for Hazardous Air Pollutants for Area Sources: Prepared Feeds Manufacturing (Prepared Feeds Area Source Rule), to keep exterior doors in the immediate affected areas shut except during normal ingress and egress, as practicable?

A: Yes. The EPA determines that the use of the louvered door system would meet the requirements of subpart DDDDDDD. The louvered door system described would maintain the function of the closed doors by only opening the louvers to the interior of the building when the doors are under negative pressure, drawing air into the building. Under these conditions the doors would be serving the purpose of minimizing the release of prepared feed dust emissions to the outside, which is the intent of the work practice standard in Section 63.11621(a)(1)(iii).

Dated: November 10, 2016.
David A. Hindin,
Director, Office of Compliance, Office of Enforcement and Compliance Assurance.

[FR Doc. 2016-31235 Filed 12-27-16; 8:45 am]

BILLING CODE 6560-50-P